DEPARTMENT OF LABOR

Occupational Safety and Health Administration

29 CFR Part 1910

Occupational Safety and Health Standards

CFR Correction

In Title 29 of the Code of Federal Regulations, Parts 1910 to § 1910.999, revised as of July 1, 2017, on page 247, in § 1910.106, paragraph (d)(2)(iii) introductory text is revised to read as follows:

§ 1910.106 Flammable liquids.

* * * * *

(d) * * *

(1) * * *

(2) * * *

(iii) Size. Flammable liquid containers shall be in accordance with Table H-12, except that glass or plastic containers of no more than 1-gallon capacity may be used for a Category 1 or 2 flammable liquid if:

* * * * *

[FR Doc. 2018-14144 Filed 6-28-18; 8:45 am]

BILLING CODE 1301-00-D